ENVIRONMENTAL PROTECTION AGENCY

40 CFR Part 52

[CA 026-CORR; FRL-6733-5]

Approval and Promulgation of Implementation Plans; State of California

AGENCY: Environmental Protection Agency (EPA).

ACTION: Final rule; correction.

SUMMARY: This action corrects language to Title 40 of the Code of Federal Regulations that appeared in a direct final rule published in the Federal Register on April 19, 2000. It also corrects language that appeared in various other final Federal Register actions.

EFFECTIVE DATE: This action is effective August 4, 2000.

FOR FURTHER INFORMATION CONTACT: Julie A. Rose, Rulemaking Office, Air Division, U.S. Environmental Protection Agency, Region IX, 75 Hawthorne Street, San Francisco, CA 94105, Telephone: (415) 744-1184.

SUPPLEMENTARY INFORMATION: On April 19, 2000 at 65 FR 20913, EPA published a direct final rulemaking action approving a rule from the Sacramento Metropolitan Air Quality Management District of the California State Implementation Plan (SIP). The direct final rulemaking contained amendments to 40 CFR part 52, subpart F. The amendment which incorporated material by reference into § 52.220, Identification of plan, paragraph (c)(263)(i)(C)(2) is incorrect. The amendment is being corrected in this action. Paragraph (C) should have been identified as Sacramento Metropolitan Air Quality Management District and paragraph (1) should have listed Rule 464 instead of paragraph (2). The identification of these two paragraphs is being corrected in this action.

On May 7, 1996, at 61 FR 20454, EPA published a direct final rulemaking action approving Rule 359 for the Santa Barbara County Air Pollution Control District. The direct final rulemaking contained amendments to 40 CFR part 52, subpart F. The material incorporated by reference into § 52.220, Identification of plan, paragraph (c)(198)(i)(K)(2) was identified in the Federal Register, however, the information was not transferred to the Code of Federal Regulations (CFR). Paragraph (2) should read: “Rule 359, adopted on June 28, 1994.” This omission is being corrected in this action.

Additional omissions in 40 CFR 52.220 are being corrected in this action. Paragraph (c)(184)(i)(D) should be identified as San Diego County Air Pollution Control District. Paragraph (c)(220)(i)(B) should be identified as Placer County Air Pollution Control District. Paragraph (c)(225)(i)(C) should be identified as El Dorado County Air Pollution Control District. The identification of these paragraphs is being corrected in this action.

On March 1, 1996, at 61 FR 7994, the deletion of Kern County Air Pollution Control District Rule 425 was incorrectly added as paragraph (c)(194)(i)(D)(3 ). In today's action, the deletion of Rule 425 is being correctly added to paragraph (c)(132)(B) and paragraph (c)(194)(i)(D)(3) is being removed.

Section 553 of the Administrative Procedure Act, 5 U.S.C. 553(b)(B), provides that, when an agency for good cause finds that notice and public procedures are impracticable, unnecessary or contrary to the public interest, the agency may issue a rule without providing notice and an opportunity for public comment. EPA has determined that there is good cause for making today's rule final without prior proposal and opportunity for comment because EPA is correcting omissions and amending the rules listed in the currently approved information. The affected regulations are codified at 40 CFR part 52, subpart F, § 52.220. These rules were previously subject to notice and comment prior to EPA approval. Thus, notice and public procedure are unnecessary. EPA finds that this constitutes good cause under 5 U.S.C. 553(b)(B).

Administrative Requirements

Under Executive Order 12866 (58 FR 51735, October 4, 1993), this action is not a “significant regulatory action” and, is therefore not subject to review by the Office of Management and Budget. Because the agency has made a “good cause” finding that this action is not subject to notice-and-comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implication of the rule in accordance with the “Attorney General's Supplemental Guidelines for the Evaluation of Risk and Avoidance of Unanticipated Takings” issued under the executive order. This rule does not impose an information collection burden under the provisions of the Paperwork Reduction Act of 1995 (44 U.S.C. 3501 et seq.). EPA's compliance with these statutes and Executive Orders for the underlying rule is discussed in the June 8, 2000 Federal Register document.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefor, and established an effective date of August 4, 2000. EPA will submit a report containing this rule and other required information to the U.S. Senate, the U.S. House of Representatives, and the Comptroller General of the United States prior to publication of the rule in the Federal Register. This action is not a “major rule” as defined by 5 U.S.C. 804(2).

List of Subjects in 40 CFR Part 52

Environmental protection, Air pollution control, Hydrocarbons, Incorporation by reference, Intergovernmental relations, Ozone, Reporting and recordkeeping requirements, Volatile organic compounds.

Nora McGee,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c) (132)(i)(B), (184)(i)(D) introductory text, (198)(i)(K)(2), (220)(i)(B) introductory text, (225)(i)(C) introductory text, (263)(i)(C) introductory text, (263)(i)(C)(1) and by removing (194)(i)(D)(3) and (263)(i)(C)(1) to read as follows:

§ 52.220 Identification of plan.

* * * * *

(c) * * *

(132) * * *

(i) * * *

(B) Previously approved on May 3, 1984 and now deleted without replacement, Rule 425.

* * * * *

(184) * * *

(i) * * *

(D) San Diego County Air Pollution Control District.

* * * * *

(198) * * *

(i) * * *

(K) * * *

(2) Rule 359, adopted on June 28, 1994.

* * * * *

(220) * * *

(i) * * *

(B) Placer County Air Pollution Control District.

* * * * *

(225) * * *

(i) * * *

(C) El Dorado County Air Pollution Control District.

* * * * *

(263) * * *

(i) * * *

(C) Sacramento Metropolitan Air Quality Management District.

(1) Rule 464, adopted on July 23, 1998.

* * * * *

[FR Doc. 00-18641 Filed 8-3-00; 8:45 am]

BILLING CODE 6560-50-P